DEPARTMENT OF HEALTH AND HUMAN SERVICES

Administration for Community Living

Availability of Program Application Instructions for Long-Term Care Ombudsman Program Funds

Title: Coronavirus Response and Relief Supplemental Appropriations Act of 2021: Grants to Enhance Capacity of Long-Term Care Ombudsman Programs to Respond to Complaints of Abuse and Neglect of Residents in Long-Term Care Facilities During the COVID-19 Public Health Emergency.

Announcement Type: Initial.

Statutory Authority: The statutory authority for grants under this program announcement is contained in Section 712 of the Older Americans Act of 1965 [Pub. L. 89-73] [As Amended Through Pub. L. 116-131, Enacted March 25, 2020]; and Subtitle B of Title XX of the Social Security Act, otherwise known as the Elder Justice Act [Pub. L. 74-271] [As Amended Through Pub. L. 115-123, Enacted February 9, 2018] as referenced in the Coronavirus Response and Relief Supplemental Appropriations Act of 2021.

Catalog of Federal Domestic Assistance (CFDA) Number: 93.747.

DATES: The deadline date for State Agencies on Aging to submit their Letter of Assurance for Long-Term Care Ombudsman Programs is 11:59 p.m. EST March 3, 2021.

I. Funding Opportunity Description

The purpose of this funding opportunity is to strengthen the capacity of State Long-Term Care Ombudsman programs to respond during the COVID public health emergency and resolve resident complaints about abuse and neglect. This funding opportunity is appropriated through the Coronavirus Response and Relief Supplemental Appropriations Act of 2021and authorized by the Elder Justice Act, 42 U.S.C. Section 2043(a)(1)(A).

ACL seeks plans from State Agencies on Aging, developed in coordination with the State Long-Term Care Ombudsman, that describe how the Long-Term Care Ombudsman (LTCO) programs will use funds to enhance their capacity during and related to the COVID public health emergency to respond to and resolve complaints about abuse and neglect. This enhancement of capacity can include activities described below. Plans for use of these grant funds may go above and beyond those regular activities planned in response to other funding.

To be eligible to receive this grant, State Agencies on Aging must submit a Letter of Assurance to ACL containing all of the assurances required, (see Section III of this FRN, Eligibility Criteria and Other Requirements).

The Letter of Assurance will be considered an Amendment to the State Plan on Aging and must describe the State LTCO plans for use of these supplemental funds. Examples of activities consistent with the purposes of the authorizing legislation include the following:

a. Enhance Ombudsman program complaint investigations during the COVID public health emergency to address complaints related to abuse, neglect and poor care;

b. Resume in-person visitation at such time as visitation is permitted, such as when the COVID vaccine is accessible to residents, facility staff, and individuals working for the LTCO program;

c. Conduct education and outreach on abuse and neglect identification and prevention during the COVID public health emergency to residents, their families and facility staff;

d. Enable travel for representatives of the LTCO Office to ensure all residents have access to a LTCO representative;

e. Continue purchase of needed Personal Protective Equipment;

f. Continue purchase of technology as needed;

g. Enable participation in state-level “strike teams” to address complaints related to care and neglect;

h. Provide information and assistance on transitions from long-term care facilities to community-based, home care settings, consistent with section 712(a)(3) of the Older Americans Act.

II. Award Information

1. Funding Instrument Type

These grants are discretionary, supplemental grants, authorized by Section 2043(a)(1)A) of the Elder Justice Act and appropriated through the Coronavirus Response and Relief Supplemental Appropriations Act of 2021. The State Agency on Aging will assure that the State LTCO uses these supplemental funds consistent with the purposes authorized by appropriations contained in Section 2043(a)(1)A) of the Elder Justice Act and the Coronavirus Response and Relief Supplemental Appropriations Act, 2021.

2. Anticipated Total Priority Area Funding

The total available funding for this opportunity is $4,000,000. ACL intends to make available, under this program announcement, grant awards to State Agencies on Aging for their Long-Term Care Ombudsman Programs. The period of performance for these grants during which grant activities must occur is estimated to commence on April 1, 2021 and is projected to end on September 20, 2022.

Each State Agency on Aging is eligible to apply for and receive the amount of funding in the table below:

State/territory | Available amount
Alabama | $60,199
Alaska | 20,000
Arizona | 90,163
Arkansas | 36,589
California | 417,159
Colorado | 61,189
Connecticut | 45,013
Delaware | 20,000
Dist. of Columbia | 20,000
Florida | 303,577
Georgia | 109,640
Hawaii | 20,000
Idaho | 20,534
Illinois | 146,331
Indiana | 77,725
Iowa | 38,952
Kansas | 33,840
Kentucky | 53,551
Louisiana | 53,319
Maine | 20,093
Maryland | 69,196
Massachusetts | 83,348
Michigan | 126,278
Minnesota | 66,092
Mississippi | 34,710
Missouri | 75,369
Montana | 20,000
Nebraska | 22,162
Nevada | 35,030
New Hampshire | 20,000
New Jersey | 105,708
New Mexico | 25,885
New York | 233,584
North Carolina | 123,870
North Dakota | 20,000
Ohio | 146,118
Oklahoma | 45,020
Oregon | 53,369
Pennsylvania | 169,031
Rhode Island | 20,000
South Carolina | 65,596
South Dakota | 20,000
Tennessee | 81,099
Texas | 271,783
Utah | 26,288
Vermont | 20,000
Virginia | 97,092
Washington | 86,398
West Virginia | 25,531
Wisconsin | 72,886
Wyoming | 20,000
American Samoa | 2,500
Guam | 10,000
Northern Marianas | 2,500
Puerto Rico | 45,683
Virgin Islands | 10,000

III. Eligibility Criteria and Other Requirements

1. The eligible entities for this award are State Agencies on Aging Long-Term Care Ombudsman Programs

2. Cost Sharing or Matching is not required.

3. State Agencies on Aging must provide a Letter of Assurance that will be considered an Amendment to the State Plan on Aging no later than March 3, 2021. The Letter of Assurance must contain the following:

a. A description of specific project strategies that may include from among the following:

i. Enhancing Ombudsman program complaint investigations during the COVID public health emergency to address complaints related to abuse, neglect and poor care;

ii. Resuming in-person visitation at such time as visitation is permitted, such as when the COVID vaccine is accessible to residents, facility staff, and individuals working for the LTCO program;

iii. Conducting education and outreach on abuse and neglect identification and prevention during the COVID public health emergency to residents, their families and facility staff;

iv. Enabling travel for representatives of the LTCO Office to ensure all residents have access to an LTCO;

v. Purchase of needed Personal Protective Equipment;

vi. Purchase of technology; and

vii. Enabling participation in state-level “strike teams” to address complaints related to care and neglect.

b. Assurance that these funds will supplement, and not supplant, existing funding for the State LTCO program; and

c. Assurance that State Agencies on Aging will timely submit to ACL semi-annual federal financial reports and annual program reports related to the activities performed.

4. DUNS Number

All grant applicants must obtain and keep current a D-U-N-S number from Dun and Bradstreet. It is a nine-digit identification number, which provides unique identifiers of single business entities. The D-U-N-S number can be obtained from: https://iupdate.dnb.com/iUpdate/viewiUpdateHome.htm.

5. Intergovernmental Review

Executive Order 12372, Intergovernmental Review of Federal Programs, is not applicable to these grant applications.

IV. Submission Information

1. Letters of Assurance should be addressed to: Alison Barkoff, Acting Administrator and Assistant Secretary for Aging, Administration for Community Living, 330 C Street SW, Washington, DC 20201.

Letters of Assurance should be submitted electronically via email to the ACL Regional Administrator for each state listed in the Agency Contacts below.

2. Submission Dates and Times:

To receive consideration, Letters of Assurance must be submitted by 11:59 p.m. Eastern Time on March 3, 2021. Letters of Assurance should be submitted electronically via email and have an electronic time stamp indicating the date/time submitted.

VII. Agency Contacts

Direct inquiries regarding programmatic issues to Regional Administrators:

| Covered states | ACL regional administrator
Region I | CT, MA, ME, NH, RI, VT | Jennifer Throwe, Email: jennifer.throwe@acl.hhs.gov, Phone: 617-565-1158.
Region II | NY, NJ, PR, VI | Kathleen Otte, Email: kathleen.otte@acl.hhs.gov, Phone: 212-264-2976.
Region III | DC, DE, MD, PA, VA, WV | Rhonda Schwartz, Email: rhonda.schwartz@acl.hhs.gov, Phone: 267-831-2329.
Region IV | AL, FL, GA, KY, MS, NC, SC, TN | Costas Miskis, Email: Constantinos.Miskis@acl.hhs.gov, Phone: 404-562-7600.
Region V | IL, IN, MI, MN, OH, WI | Amy Wiatr-Rodriguez, Email: Amy.Wiatr-Rodriguez@acl.hhs.gov, Phone: 312-938-9858.
Region VI | AR, LA, OK, NM, TX | Derek Lee, Email: derek.lee@acl.hhs.gov, Phone: 214-767-1865.
Region VII | IA, KS, MO, NE | Lacey Boven, Email: lacey.boven@acl.hhs.gov, Phone: 816-702-4180.
Region VIII | CO, MT, UT, WY, ND, SD | Percy Devine, Email: percy.devine@acl.hhs.gov, Phone: 303-844-2951.
Region IX | CA, NV, AZ, HI, GU, CNMI, AS | Fay Gordon, Email: Fay.Gordon@acl.hhs.gov, Phone: 415-437-8780.
Region X | AK, ID, OR, WA | Louise Ryan, Email: Louise.Ryan@acl.hhs.gov, Phone: (206) 615-2299.

Dated: January 27, 2021.
Alison Barkoff,
Acting Administrator and Assistant Secretary for Aging.

[FR Doc. 2021-02092 Filed 1-29-21; 8:45 am]

BILLING CODE 4154-01-P